DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration (ITA).

Title: Survey of Organizations Participating in the United States (U.S.)—European Union (EU) Safe Harbor Framework and United States (U.S.)—Switzerland (Swiss) Safe Harbor Framework.

OMB Control Number: 0625-0268.

Form Number(s): None.

Type of Request: Regular submission (extension of a currently approved information collection).

Number of Respondents: 1,284.

Average Hours per Response: 20 minutes, completion of survey with initial self-certification or recertification submission via DOC's Safe Harbor Web site.

Burden Hours: 428.

Needs and Uses: The information collection concerns the voluntary survey that U.S. organizations are asked to complete and submit to the U.S. Department of Commerce (DOC) when they self-certify their compliance with the U.S.-EU Safe Harbor Framework and/or the U.S.-Swiss Safe Harbor Framework. The survey for which an extension is being sought is an approved information collection.

The DOC's International Trade Administration (ITA) administers the U.S.-EU Safe Harbor program and U.S.-Swiss Safe Harbor program. The U.S.-EU Safe Harbor Framework and U.S.-Swiss Safe Harbor Framework provide eligible U.S. organizations with a streamlined means of complying with the relevant requirements of the European Union's Data Protection Directive and the Swiss Federal Act on Data Protection. The Safe Harbor Frameworks help facilitate the flow of personal data worth critical to billions of dollars in trade between the United States and the EU and Switzerland.

In line with President Obama's National Export Initiative, the DOC is interested in gathering information from U.S. organizations that participate in one or both of the Safe Harbor programs to: (a) Better evaluate how the Safe Harbor Frameworks support U.S. exports, and (b) potentially identify areas for improvement. The voluntary survey provides participants, including small businesses, in the Safe Harbor programs with an opportunity to communicate directly with the DOC regarding these programs. The information collected through this survey will not be made public, except at the aggregate level.

Affected Public: Business or other for-profit organizations.

Frequency: Annually.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: July 25, 2014.
Gwellnar Banks,
Management Analyst, Office of the Chief Information Officer.

[FR Doc. 2014-17953 Filed 7-29-14; 8:45 am]

BILLING CODE 3510-DR-P